DEPARTMENT OF TRANSPORTATION

Federal Aviation Administration

14 CFR Part 39

[Docket No. FAA-2012-1078; Directorate Identifier 2011-NM-012-AD; Amendment 39-17534; AD 2013-15-18]

RIN 2120-AA64

Airworthiness Directives; Lockheed Martin Corporation/Lockheed Martin Aeronautics Company Airplanes

AGENCY: Federal Aviation Administration (FAA), DOT.

ACTION: Final rule.

SUMMARY: We are superseding an airworthiness directive (AD) for all Lockheed Martin Corporation/Lockheed Martin Aeronautics Company Model L-1011 series airplanes. AD 2005-15-01 required repetitive inspections to detect corrosion or fatigue cracking of certain structural elements of the airplane, corrective actions if necessary, and incorporation of certain structural modifications. This new AD reduces certain compliance times for the initial inspection and the repetitive inspection interval for certain airplanes. This AD was prompted by reports of small cracks in additional areas outside those addressed in AD 2005-15-01, prior to the inspection threshold required by the AD 2005-15-01. We are issuing this AD to prevent corrosion or fatigue cracking of certain structural elements, which could result in reduced structural integrity of the airplane.

DATES: This AD is effective October 1, 2013.

The Director of the Federal Register approved the incorporation by reference of certain publications listed in the AD as of October 1, 2013.

The Director of the Federal Register approved the incorporation by reference of certain other publications listed in this AD as of August 26, 2005 (70 FR 42262, July 22, 2005).

ADDRESSES: For service information identified in this AD, contact Lockheed Martin Corporation/Lockheed Martin Aeronautics Company, L-1011 Technical Support Center, Dept. 6A4M, Zone 0579, 86 South Cobb Drive, Marietta, GA 30063-0579; telephone 770-494-5444; fax 770-494-5445; email L1011.support@lmco.com; Internet http://www.lockheedmartin.com/ams/tools/TechPubs.html. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Carl Gray, Aerospace Engineer, Airframe Branch, ACE-117A, FAA, Atlanta Aircraft Certification Office (ACO), 1701 Columbia Avenue, College Park, Georgia 30337; phone: 404-474-5554; fax: 404-474-5605; email: carl.w.gray@faa.gov.

SUPPLEMENTARY INFORMATION:

Discussion

We issued a notice of proposed rulemaking (NPRM) to amend 14 CFR part 39 to supersede AD 2005-15-01, Amendment 39-14190 (70 FR 42262, July 22, 2005). AD 2005-15-01 applied to the specified products. The NPRM published in the Federal Register on October 16, 2012 (77 FR 63275). The NPRM proposed to continue to require repetitive inspections to detect corrosion or fatigue cracking of certain structural elements of the airplane, corrective actions if necessary, and incorporation of certain structural modifications. The NPRM also proposed to require reducing certain compliance times for the initial inspection and the repetitive inspection interval for certain airplanes.

Comments

We gave the public the opportunity to participate in developing this AD. The following presents the comments received on the proposal (77 FR 63275, October 16, 2012) and the FAA's response to each comment.

Request To Update Certain Address Information

Lockheed Martin Corporation/Lockheed Martin Aeronautics Company requested that we revise the NPRM (77 FR 63275, October 16, 2012) to update its address information.

We agree to update the address information in this final rule. We have included this updated information in the ADDRESSES section and paragraph (n)(5) of this AD.

Additional Change Made to This AD

We have revised paragraph (g)(10) of this AD (in table 1 to paragraph (g) of this AD) to include paragraph identifiers for paragraphs (g)(10)(i) and (g)(10)(ii) of this AD. This change is for formatting purposes only.

Conclusion

We reviewed the relevant data, considered the comment received, and determined that air safety and the public interest require adopting this AD with the change described previously—and minor editorial changes. We have determined that these minor changes:

• Are consistent with the intent that was proposed in the NPRM (77 FR 63275, October 16, 2012) for correcting the unsafe condition; and

• Do not add any additional burden upon the public than was already proposed in the NPRM (77 FR 63275, October 16, 2012).

We also determined that these changes will not increase the economic burden on any operator or increase the scope of the AD.

Costs of Compliance

We estimate that this AD affects 26 airplanes of U.S. registry.

We estimate the following costs to comply with this AD:

Estimated costs
Action | Labor cost | Parts cost | Cost per product | Cost on U.S. operators
Inspections [retained actions from AD 2005-15-01, Amendment 39-14190 (70 FR 42262, July 22, 2005)] | 129 work-hours × $85 per hour = $10,965 per inspection cycle | $0 | $10,965 per inspection cycle. | $285,090 per inspection cycle.
Modification [retained action from AD 2005-15-01, Amendment 39-14190 (70 FR 42262, July 22, 2005)] | 614 work-hours × $85 per hour = $52,190 | $142,275 | $194,465 | $5,056,090.

We have received no definitive data that would enable us to provide cost estimates for the retained on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-15-01, Amendment 39-14190 (70 FR 42262, July 22, 2005), and adding the following new AD:

2013-15-18 Lockheed Martin Corporation/Lockheed Martin Aeronautics Company: Amendment 39-17534; Docket No. FAA-2012-1078; Directorate Identifier 2011-NM-012-AD.

(a) Effective Date

This AD is effective October 1, 2013.

(b) Affected ADs

This AD supersedes AD 2005-15-01, Amendment 39-14190 (70 FR 42262, July 22, 2005).

(c) Applicability

This AD applies to all Lockheed Martin Corporation/Lockheed Martin Aeronautics Company Model L-1011-385-1, L-1011-385-1-14, L-1011-385-1-15, and L-1011-385-3 airplanes, certificated in any category.

(d) Subject

Joint Aircraft System Component (JASC)/Air Transport Association (ATA) of America Code 51, Standard practices/structures; 52, Doors; 53, Fuselage; 57, Wings.

(e) Unsafe Condition

This AD was prompted by reports of small cracks in additional areas outside those addressed in AD 2005-15-01, Amendment 39-14190 (70 FR 42262, July 22, 2005), prior to the inspection threshold required by AD 2005-15-01. We are issuing this AD to prevent corrosion or fatigue cracking of certain structural elements, which could result in reduced structural integrity of the airplane.

(f) Compliance

Comply with this AD within the compliance times specified, unless already done.

(g) Retained Inspections With Revised Service Information and Reduced Compliance Times

This paragraph restates the inspections required by paragraph (a) of AD 2005-15-01, Amendment 39-14190 (70 FR 42262, July 22, 2005), with revised service information and reduced compliance times for paragraph (g)(16) of this AD. At the time specified in the “Initial Compliance Time” column of table 1 to paragraph (g) of this AD, perform structural inspections to detect corrosion or fatigue cracking of certain structural elements of the airplane, in accordance with the applicable service bulletins listed under “Service Bulletin Number, Revision, and Date” in tables I and II of Lockheed Tristar L-1011 Service Bulletin 093-51-041, Revision 1, dated March 3, 2000; or Revision 2, dated March 30, 2010 (The applicable service bulletins are also identified in Table 1 to paragraph (g) of this AD.) As of the effective date of this AD, only Lockheed Tristar L-1011 Service Bulletin 093-51-041, Revision 2, dated March 30, 2010, may be used for the actions required by this paragraph. Thereafter, repeat the inspections at intervals specified in the “Repetitive Intervals” column of table 1 to paragraph (g) of this AD.

Table 1 to Paragraph (g) of This AD
Lockheed TriStar L-1011 Service Bulletin | Initial compliance time (whichever occurs later between the times in “Inspection Threshold” and “Grace Period”): Inspection threshold | Initial compliance time (whichever occurs later between the times in “Inspection Threshold” and “Grace Period”): Grace period | Repetitive intervals | Terminating action
(1) 093-53-269, Revision 1, dated October 28, 1997 | Before the accumulation of 8,000 total flight cycles or 15,000 total flight hours, whichever occurs first | Within 6,450 flight cycles or 5 years after August 26, 2005 (the effective date of AD 2005-15-01, Amendment 39-14190 (70 FR 42262, July 22, 2005)), whichever occurs first | At intervals not to exceed 6,450 flight cycles or 5 years, whichever occurs first | (None).
(2) 093-53-274, dated May 28, 1997 | Within 14 months after August 26, 2005 (the effective date of AD 2005-15-01, Amendment 39-14190 (70 FR 42262, July 22, 2005)) | (None) | At intervals not to exceed 14 months | (None).
(3) 093-53-275, dated December 10, 1996 | Within 6,450 flight cycles or 5 years after August 26, 2005 (the effective date of AD 2005-15-01, Amendment 39-14190 (70 FR 42262, July 22, 2005)), whichever occurs first | (None) | (None) | (None).
(4) 093-53-276, dated June 17, 1996 | At the next Corrosion Prevention and Control Program (CPCP) inspection after August 26, 2005 (the effective date of AD 2005-15-01, Amendment 39-14190 (70 FR 42262, July 22, 2005)) | (None) | At intervals not to exceed the next CPCP inspection | (None).
(5) 093-57-085, Revision 1, dated December 1, 1997 | Before the accumulation of 26,000 total flight cycles or 48,000 total flight hours, whichever occurs first | Within 1,800 flight cycles or 3,300 flight hours after August 26, 2005 (the effective date of AD 2005-15-01, Amendment 39-14190 (70 FR 42262, July 22, 2005)), whichever occurs first | At intervals not to exceed 1,800 flight cycles or 3,300 flight hours, whichever occurs first | Modification in accordance with Lockheed TriStar L-1011 Service Bulletin 093-57-085, Basic Issue, dated May 7, 1993; or Revision 1, dated December 1, 1997.
(6) 093-57-208, Revision 1, dated October 28, 1997 | Before the accumulation of 18,000 total flight cycles | Within 6,450 flight cycles or 5 years after August 26, 2005 (the effective date of AD 2005-15-01, Amendment 39-14190 (70 FR 42262, July 22, 2005)), whichever occurs first | At intervals not to exceed 6,450 flight cycles or 5 years, whichever occurs first | (None).
(7) 093-52-210, dated July 19, 1991, including Lockheed LCC-7622-248, Corrosion Removal and Refurbishment of C1-A Cargo Door Cam Latches, Latch Bellcranks and Matched Latch Support Assemblies, dated February 27, 1990 | Within 5,000 flight hours or 18 months after August 26, 2005 (the effective date of AD 2005-15-01, Amendment 39-14190 (70 FR 42262, July 22, 2005)), whichever occurs first | (None) | (None) | (None).
(8) 093-53-054, Revision 1, dated August 12, 1975 | Within 6,450 flight cycles or 5 years after August 26, 2005 (the effective date of AD 2005-15-01, Amendment 39-14190 (70 FR 42262, July 22, 2005)), whichever occurs first | (None) | (None) | (None).
(9) 093-53-070, Revision 3, dated September 19, 1989 | Before the accumulation of 6,000 total flight hours | Within 1,500 flight hours after August 26, 2005 (the effective date of AD 2005-15-01, Amendment 39-14190 (70 FR 42262, July 22, 2005)) | At intervals not to exceed 3,000 flight hours | Modification in accordance with Lockheed TriStar L-1011 Service Bulletin 093-53-070, Basic Issue, dated September 26, 1974; Revision 1, dated January 23, 1975; Revision 2, dated July 7, 1975; or Revision 3, dated September 19, 1989.
(10) 093-53-085, Revision 3, dated December 15, 1989 | (i) Part I: Before the accumulation of 20,000 flight cycles or 37,000 total flight hours, whichever occurs first | Part I: Within 1,600 flight cycles or 3,000 flight hours after August 26, 2005 (the effective date of AD 2005-15-01, Amendment 39-14190 (70 FR 42262, July 22, 2005)), whichever occurs first | Part I: At intervals not to exceed 1,600 flight cycles or 3,000 flight hours, whichever occurs first | Modification in accordance with Lockheed TriStar L-1011 Service Bulletin 093-53-085, Basic Issue, dated September 29, 1975; Revision 1, dated September 3, 1976; or Revision 2, dated February 8, 1988.
| (ii) Part II: Before the accumulation of 30,000 flight cycles or 55,000 total flight hours, whichever occurs first | Part II: Within 5,000 flight cycles or 9,200 flight hours after August 26, 2005 (the effective date of AD 2005-15-01, Amendment 39-14190 (70 FR 42262, July 22, 2005)), whichever occurs first | Part II: At intervals not to exceed 5,000 flight cycles or 9,200 flight hours, whichever occurs first | Modification in accordance with Lockheed TriStar L-1011 Service Bulletin 093-53-085, Basic Issue, dated September 29, 1975; Revision 1, dated September 3, 1976; or Revision 2, dated February 8, 1988.
(11) 093-53-086, Revision 5, dated April 12, 1990 | Before the accumulation of 9,000 flight cycles or 10,000 flight hours, whichever occurs first | Within 1,600 flight cycles or 3,000 flight hours after August 26, 2005 (the effective date of AD 2005-15-01, Amendment 39-14190 (70 FR 42262, July 22, 2005)), whichever occurs first | At intervals not to exceed 1,600 flight cycles or 3,000 flight hours, whichever occurs first | Modification in accordance with Lockheed TriStar L-1011 Service Bulletin 093-53-086, Basic Issue, dated September 26, 1975; Revision 1, dated November 12, 1975; Revision 2, dated December 12, 1976; Revision 3, dated July 19, 1977; Revision 4, dated July 8, 1985; or Revision 5, dated April 12, 1990.
(12) 093-53-110, Revision 1, dated May 7, 1993 | Before the accumulation of 22,000 total flight cycles or 40,000 total flight hours, whichever occurs first | Within 2,200 flight cycles or 4,000 flight hours after August 26, 2005 (the effective date of AD 2005-15-01, Amendment 39-14190 (70 FR 42262, July 22, 2005)), whichever occurs first | At intervals not to exceed 2,200 flight cycles or 4,000 flight hours, whichever occurs first | Modification in accordance with Lockheed TriStar L-1011 Service Bulletin 093-53-110, Basic Issue, dated August 19, 1991; or Revision 1, dated May 7, 1993.
(13) Change Notification 093-53-260, CN4, dated May 8, 1998 | Before the accumulation of 8,000 total flight cycles or 20,000 total flight hours, whichever occurs first | Within 800 flight cycles or 1,500 flight hours after August 26, 2005 (the effective date of AD 2005-15-01, Amendment 39-14190 (70 FR 42262, July 22, 2005)), whichever occurs first | At intervals not to exceed 800 flight cycles or 1,500 flight hours, whichever occurs first | Inspection and modification in accordance with Part 2.A. of Lockheed TriStar L-1011 Service Bulletin 093-53-260, Basic Issue, dated May 15, 1991.
(14) Change Notification 093-53-266, CN1, dated July 10, 1992 | Within 12 months after August 26, 2005 (the effective date of AD 2005-15-01, Amendment 39-14190 (70 FR 42262, July 22, 2005)) | (None) | At intervals not to exceed 90 days | Modification in accordance with Lockheed TriStar L-1011 Service Bulletin 093-53-266, Basic Issue, dated March 2, 1992.
(15) Change Notification 093-57-058, R5-CN1, dated May 3, 1993 | Before the accumulation of 20,000 total flight cycles or 37,000 total flight hours, whichever occurs first | Within 1,600 flight cycles or 3,000 flight hours after August 26, 2005 (the effective date of AD 2005-15-01, Amendment 39-14190 (70 FR 42262, July 22, 2005)), whichever occurs first | At intervals not to exceed 1,600 flight cycles or 3,000 flight hours, whichever occurs first | Modification in accordance with Lockheed TriStar L-1011 Service Bulletin 093-57-058, Basic Issue, dated September 16, 1975; Revision 1, dated December 1, 1976; Revision 2, dated June 30, 1978; Revision 3, dated October 19, 1978; Revision 4, dated July 6, 1981; or Revision 5, dated June 9, 1983.
(16) Change Notification 093-57-195, R3-CN1, dated August 22, 1995; or Lockheed TriStar L-1011 Service Bulletin 093-57-195, Revision 4, dated March 17, 2010 | At the applicable time specified in paragraph (j) of this AD | At the applicable time specified in paragraph (j) of this AD | At the applicable time specified in paragraph (k) of this AD | Modification in accordance with Lockheed TriStar L-1011 Service Bulletin 093-57-195, Revision 2, dated July 27, 1990; Revision 3, dated June 30, 1992; or Revision 4, dated March 17, 2010.
(17) Change Notification 093-57-213, CN1, dated February 20, 1996 | (i) For Model L-1011-385-1, L-1011-385-1-14, L-1011-385-1-15: Before the accumulation of 15,000 total flight cycles | Within 6,450 flight cycles or 5 years after August 26, 2005 (the effective date of AD 2005-15-01, Amendment 39-14190 (70 FR 42262, July 22, 2005)), whichever occurs first | At intervals not to exceed 6,450 flight cycles or 5 years, whichever occurs first | Repair or modification in accordance with Lockheed TriStar L-1011 Service Bulletin 093-57-213, Basic Issue, dated December 9, 1994.
| (ii) For Model L-1011-385-3: Before the accumulation of 10,000 total flight cycles | Within 6,450 flight cycles or 5 years after August 26, 2005 (the effective date of AD 2005-15-01, Amendment 39-14190 (70 FR 42262, July 22, 2005)), whichever occurs first | At intervals not to exceed 6,450 flight cycles or 5 years, whichever occurs first | Repair or modification in accordance with Lockheed TriStar L-1011 Service Bulletin 093-57-213, Basic Issue, dated December 9, 1994.

(h) Retained Corrective Action With a Certain Compliance Method Removed and Revised Service Information

This paragraph restates the corrective action required by paragraph (b) of AD 2005-15-01, Amendment 39-14190 (70 FR 42262, July 22, 2005), with a certain compliance method removed and revised service information. If any cracking or corrosion is detected during any inspection required by paragraph (g) of this AD, prior to further flight, accomplish the actions specified in paragraph (h)(1), (h)(2), or (h)(3) of this AD.

(1) Repair in accordance with the applicable service bulletin referenced in table I or II of Lockheed Tristar L-1011 Service Bulletin 093-51-041, Revision 1, dated March 3, 2000; or Revision 2, dated March 30, 2010.

(2) Accomplish the terminating modification in accordance with the applicable service bulletin referenced in table I or II of Lockheed Tristar L-1011 Service Bulletin 093-51-041, Revision 1, dated March 3, 2000; or Revision 2, dated March 30, 2010.

(3) Repair in accordance with a method approved by the Manager, Atlanta Aircraft Certification Office (ACO), FAA. Information on additional methods of compliance can be obtained from the Manager, Atlanta ACO.

(i) Retained Terminating Action

This paragraph restates the terminating action required by paragraph (c) of AD 2005-15-01, Amendment 39-14190 (70 FR 42262, July 22, 2005). Within 5 years or 5,000 flight cycles after August 26, 2005 (the effective date of AD 2005-15-01), whichever occurs first, install the terminating modification referenced in the applicable service bulletin listed in table 1 to paragraph (g) of this AD, in accordance with the applicable service bulletin listed in table 1 to paragraph (g) of this AD. Such installation constitutes terminating action for the applicable structural inspection required by paragraph (g) of this AD.

(j) Newly Revised Initial Inspection Compliance Time for Certain Airplanes

For airplanes identified in Lockheed TriStar L-1011 Service Bulletin 093-57-195, Revision 4, dated March 17, 2010: Do the initial inspection required by paragraph (g)(16) of this AD at the applicable time specified in paragraph (j)(1) or (j)(2) of this AD.

(1) For airplanes having serial numbers (S/Ns) 1002 through 1109 inclusive: At the earlier of the times specified in paragraphs (j)(1)(i) and (j)(1)(ii) of this AD.

(i) Before the accumulation of 20,000 total flight cycles, or within 2,200 flight cycles after August 26, 2005 (the effective date of AD 2005-15-01, Amendment 39-14190 (70 FR 42262, July 22, 2005)), whichever occurs later.

(ii) Before the accumulation of 15,000 total flight cycles, or within 2,200 flight cycles after the effective date of this AD, whichever occurs later.

(2) For airplanes having S/Ns 1110 through 1250 inclusive: At the earlier of the times specified in paragraphs (j)(2)(i) and (j)(2)(ii) of this AD.

(i) Before the accumulation of 30,000 total flight cycles, or within 2,200 flight cycles after August 26, 2005 (the effective date of AD 2005-15-01, Amendment 39-14190 (70 FR 42262, July 22, 2005)), whichever occurs later.

(ii) Before the accumulation of 15,000 total flight cycles, or within 2,200 flight cycles after the effective date of this AD, whichever occurs later.

(k) Newly Revised Repetitive Intervals for Certain Airplanes

For airplanes identified in paragraph (j) of this AD, repeat the inspection required by paragraph (j) of this AD thereafter at the applicable times specified in paragraph (k)(1) or (k)(2) of this AD.

(1) For airplanes having S/Ns 1002 through 1156 inclusive: Repeat the inspection at intervals not to exceed 2,200 flight cycles.

(2) For airplanes having S/Ns 1157 through 1250 inclusive: Repeat the inspection one time within 2,200 flight cycles after the most recent inspection, and thereafter at intervals not to exceed 1,750 flight cycles.

(l) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(m) Related Information

For more information about this AD, contact Carl Gray, Aerospace Engineer, Airframe Branch, ACE-117A, FAA, Atlanta Aircraft Certification Office (ACO), 1701 Columbia Avenue, College Park, Georgia 30337; phone: 404-474-5554; fax: 404-474-5605; email: carl.w.gray@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 1, 2013.

(i) Lockheed TriStar L-1011 Service Bulletin 093-57-195, Revision 4, dated March 17, 2010.

(ii) Lockheed Tristar L-1011 Service Bulletin 093-51-041, Revision 2, dated March 30, 2010.

(iii) Lockheed TriStar L-1011 Service Bulletin 093-53-269, Revision 1, dated October 28, 1997.

(iv) Lockheed TriStar L-1011 Service Bulletin 093-53-274, dated May 28, 1997.

(v) Lockheed TriStar L-1011 Service Bulletin 093-53-275, dated December 10, 1996.

(vi) Lockheed TriStar L-1011 Service Bulletin 093-53-276, dated June 17, 1996.

(vii) Lockheed TriStar L-1011 Service Bulletin 093-57-208, Revision 1, dated October 28, 1997.

(viii) Lockheed TriStar L-1011 Service Bulletin 093-52-210, dated July 19, 1991, including Lockheed LCC-7622-248, Corrosion Removal and Refurbishment of C1-A Cargo Door Cam Latches, Latch Bellcranks and Matched Latch Support Assemblies, dated February 27, 1990. Pages 1 and 3-8 of this document are dated February 27, 1990. Page 2 is dated February 19, 1990. Page 9 is dated January 4, 1990. Pages 10 and 11 are dated January 5, 1990.

(ix) Lockheed TriStar L-1011 Service Bulletin 093-53-054, Revision 1, dated August 12, 1975.

(x) Lockheed TriStar L-1011 Service Bulletin 093-53-085, Revision 3, dated December 15, 1989. Pages 3, 4, 7-14, and 16-23 are dated February 8, 1988. Pages 1, 2, 5, 6, and 15 are dated December 15, 1989.

(xi) Lockheed TriStar L-1011 Service Bulletin Change Notification 093-53-260, CN4, dated May 8, 1998.

(xii) Lockheed TriStar L-1011 Service Bulletin Change Notification 093-53-266, CN1, dated July 10, 1992.

(xiii) Lockheed TriStar L-1011 Service Bulletin Change Notification 093-57-058, R5-CN1, dated May 3, 1993.

(xiv) Lockheed TriStar L-1011 Service Bulletin Change Notification 093-57-195, R3-CN1, dated August 22, 1995.

(xv) Lockheed TriStar L-1011 Service Bulletin Change Notification 093-57-213, CN1, dated February 20, 1996.

(xvi) Lockheed TriStar L-1011 Service Bulletin 093-57-195, Revision 2, dated July 27, 1990.

(xvii) Lockheed TriStar L-1011 Service Bulletin 093-57-195, Revision 3, dated June 30, 1992. Pages 1-6, 23-28, 33, 34, 41, 42, and 45-52 of this document are identified as Revision 3, dated June 30, 1992; Pages 7-22, 29-32, 35-40, 43, and 44 are identified as Revision 2, dated July 27, 1990.

(xviii) Lockheed TriStar L-1011 Service Bulletin 093-57-213, dated December 9, 1994.

(4) The following service information was approved for IBR on August 26, 2005 (70 FR 42262, July 22, 2005).

(i) Lockheed TriStar L-1011 Service Bulletin 093-51-041, Revision 1, dated March 3, 2000.

(ii) Lockheed TriStar L-1011 Service Bulletin 093-53-070, Basic Issue, dated September 26, 1974.

(iii) Lockheed TriStar L-1011 Service Bulletin 093-53-070, Revision 1, dated January 23, 1975. Pages 1, 4-7, and 13-17 of this document are identified as Revision 1, dated January 23, 1975. Pages 2, 3, and 8-12 of this document are identified as Basic Issue, dated September 26, 1974.

(iv) Lockheed TriStar L-1011 Service Bulletin 093-53-070, Revision 2, dated July 7, 1975. Pages 1, 2, 7, and 9-14 of this document are identified as Revision 2, dated July 7, 1975. Pages 3 and 8 of this document are identified as Basic Issue, dated September 26, 1974. Pages 4-6 and 15-17 of this document are identified as Revision 1, dated January 23, 1975.

(v) Lockheed TriStar L-1011 Service Bulletin 093-53-070, Revision 3, dated September 19, 1989. Pages 1-6 and 8-10 of this document are identified as Revision 3, dated September 19, 1989. Page 7 of this document is identified as Basic Issue, dated September 26, 1974.

(vi) Lockheed TriStar L-1011 Service Bulletin 093-53-085, Basic Issue, dated September 29, 1975.

(vii) Lockheed TriStar L-1011 Service Bulletin 093-53-085, Revision 1, dated September 3, 1976. Pages 1-3, 6, 9-11, and 15 of this document are identified as Revision 1, dated September 3, 1976. Pages 4, 5, 7, 8, 12-14, and 16 of this document are identified as Basic Issue, dated September 29, 1975.

(viii) Lockheed TriStar L-1011 Service Bulletin 093-53-085, Revision 2, dated February 8, 1988.

(ix) Lockheed TriStar L-1011 Service Bulletin 093-53-086, Basic Issue, dated September 26, 1975.

(x) Lockheed TriStar L-1011 Service Bulletin 093-53-086, Revision 1, dated November 12, 1975. Pages 1, 2, 11, and 15 of this document are identified as Revision 1, dated November 12, 1975. Pages 3-10, 12-14, and 16 of this document are identified as Basic Issue, dated September 26, 1975.

(xi) Lockheed TriStar L-1011 Service Bulletin 093-53-086, Revision 2, dated December 12, 1976. Pages 1, 2, 7, 15, and 16 of this document are identified as Revision 2, dated December 12, 1976. Pages 3-6, 8-10, and 12-14 of this document are identified as Basic Issue, dated September 26, 1975. Page 11 of this document is identified as Revision 1, dated November 12, 1975.

(xii) Lockheed TriStar L-1011 Service Bulletin 093-53-086, Revision 3, dated July 19, 1977. Pages 1, 2, 4, 7, 10, 11, and 15 of this document are identified as Revision 3, dated July 19, 1977. Pages 3, 5, 6, 8, 9, and 12-14 of this document are identified as Basic Issue, dated September 26, 1975. Page 16 of this document is identified as Revision 2, dated December 12, 1976.

(xiii) Lockheed TriStar L-1011 Service Bulletin 093-53-086, Revision 4, dated July 8, 1985. Pages 1-4, 15, and 16 of this document are identified as Revision 4, dated July 8, 1985. Pages 5, 6, 8, 9, and 12-14 of this document are identified as Basic Issue, dated September 26, 1975. Pages 7, 10, and 11 of this document are identified as Revision 3, dated July 19, 1977.

(xiv) Lockheed TriStar L-1011 Service Bulletin 093-53-086, Revision 5, dated April 12, 1990. Pages 1-9 and 13 of this document are identified as Revision 5, dated April 12, 1990. Pages 10-12 of this document are identified as Basic Issue, dated September 26, 1975. Page 14 of this document is identified as Revision 4, dated July 8, 1985.

(xv) Lockheed TriStar L-1011 Service Bulletin 093-53-110, Basic Issue, dated August 19, 1991.

(xvi) Lockheed TriStar L-1011 Service Bulletin 093-53-110, Revision 1, dated May 7, 1993. Pages 1-7 and 9-12 of this document are identified as Revision 1, dated May 7, 1993. Page 8 of this document is identified as Basic Issue, dated August 19, 1991.

(xvii) Lockheed TriStar L-1011 Service Bulletin 093-53-260, Basic Issue, dated May 15, 1991.

(xviii) Lockheed TriStar L-1011 Service Bulletin 093-53-266, Basic Issue, dated March 2, 1992.

(xix) Lockheed TriStar L-1011 Service Bulletin 093-57-058, Basic Issue, dated September 16, 1975.

(xx) Lockheed TriStar L-1011 Service Bulletin 093-57-058, Revision 1, dated December 1, 1976. Pages 1, 2, 4, 7, 8, 11, and 15-19 of this document are identified as Revision 1, dated December 1, 1976. Pages 3, 5, 6, 9, 10, and 12-14 of this document are identified as Basic Issue, dated September 16, 1975.

(xxi) Lockheed TriStar L-1011 Service Bulletin 093-57-058, Revision 2, dated June 30, 1978. Pages 1-4, 7, 8, 11, and 15-19 of this document are identified as Revision 2, dated June 30, 1978. Pages 5, 6, 9, 10, and 12-14 of this document are identified as Basic issue, dated September 16, 1975.

(xxii) Lockheed TriStar L-1011 Service Bulletin 093-57-058, Revision 3, dated October 19, 1978. Pages 1-3, 7, 8, 11, and 15-19 of this document are identified as Revision 3, dated October 19, 1978. Page 4 of this document is identified as Revision 2, dated June 30, 1978. Pages 5, 6, 9, 10, and 12-14 of this document are identified as Basic Issue, dated September 16, 1975.

(xxiii) Lockheed TriStar L-1011 Service Bulletin 093-57-058, Revision 4, dated July 6, 1981. Pages 1-3 and 19 of this document are identified as Revision 4, dated July 6, 1981. Pages 4 and 15 of this document are identified as Revision 2, dated June 30, 1978. Pages 5, 6, 9, 10, and 12-14 of this document are identified as Basic Issue, dated September 16, 1975. Pages 7, 8, 11, and 16-18 of this document are identified as Revision 3, dated October 19, 1978.

(xxiv) Lockheed TriStar L-1011 Service Bulletin 093-57-058, Revision 5, dated June 9, 1983. Pages 1, 3, 4, and 7 of this document are identified as Revision 5, dated June 9, 1983. Page 2 of this document is identified as Revision 4, dated July 6, 1981. Pages 5, 6, 9, 10, and 12-14 of this document are identified as Basic Issue, dated September 16, 1975. Pages 8, 11, and 16-19 of this document are identified as Revision 3, dated October 19, 1978. Page 15 of this document is identified as Revision 2, dated June 30, 1978.

(xxv) Lockheed TriStar L-1011 Service Bulletin 093-57-085, Basic Issue, dated May 7, 1993. This document was incorrectly identified as “Revision 1” in the “Service bulletin” column of Table 2—Material Incorporated by Reference in AD 2005-15-01, Amendment 39-14190 (70 FR 42262, July 22, 2005).

(xxvi) Lockheed TriStar L-1011 Service Bulletin 093-57-085, Revision 1, dated December 1, 1997. Pages 1-7, 9, and 10 of this document are identified as Revision 1, dated December 1, 1997. Pages 8 and 11-17 are identified as Basic issue, dated May 7, 1993.

(5) For Lockheed service information identified in this AD, contact Lockheed Martin Corporation/Lockheed Martin Aeronautics Company, L1011 Technical Support Center, Dept. 6A4M, Zone 0579, 86 South Cobb Drive, Marietta, GA 30063-0579; telephone 770-494-5444; fax 770-494-5445; email L1011.support@lmco.com; Internet http://www.lockheedmartin.com/ams/tools/TechPubs.html.

(6) You may view this service information at FAA, Transport Airplane Directorate, 1601 Lind Avenue SW., Renton, Washington. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 21, 2013.
Stephen P. Boyd,
Acting Manager, Transport Airplane Directorate, Aircraft Certification Service.

[FR Doc. 2013-20731 Filed 8-26-13; 8:45 am]

BILLING CODE 4910-13-P